DEPARTMENT OF ENERGY

Federal Energy Regulatory Commission

[EG09-34-000, EG09-35-000]

PPL New Jersey Solar, LLC, PPL New Jersey Biogas, LLC; Notice of Effectiveness of Exempt Wholesale Generator Status

June 25, 2009.

Take notice that during the month of May 2009, the status of the above-captioned entities as Exempt Wholesale Generators became effective by operation of the Commission's regulations 18 CFR 366.7(a).

Kimberly D. Bose,
Secretary.

[FR Doc. E9-15730 Filed 7-2-09; 8:45 am]

BILLING CODE P